DEPARTMENT OF JUSTICE

Notice of Lodging of Consent Judgment Pursuant to Resource Conservation and Recovery Act

Notice is hereby given that on July 6, 2009, a proposed Consent Judgment in United States v. Citygas Gasoline Corporation, et al., Civil Action No. CV-03-6374, was lodged with the United States District Court for the Eastern District of New York.

The proposed Consent Judgment will resolve the United States' claims under Section 9006 of the Resource Recovery and Conservation Act, as amended, 42 U.S.C. 6991e, on behalf of the U.S. Environmental Protection Agency, against the following entities: Citygas Gasoline Corp.; Foster Realty Corp.; 9702-9706 Foster Avenue LLC; Foster Operating Corp.; 10 B. Street Realty Corp.; 10-12 Bond Street, LLC; 4090 Boston Road Corp.; 4090 Boston Road LLC; Connor Gas (N.Y.) Inc.; 4090 N.Y. Corp.; 117-01 Springfield Blvd, LLC; Springfield Operating Corp.; 117-01 N.Y. Corp.; 1081 N.Y. Corp.; Quincy Gas (N.Y.) Inc.; Fulton Gas (N.Y.) Inc.; Flushing 168 Corp.; 1981 N.Y. Corp.; 110-18 Atlantic Avenue, LLC; 73-12 Cooper Avenue, LLC; 168-70 Flushing Avenue, LLC; 100-07 Rockaway Boulevard, LLC; 145-15 Rockaway Boulevard, LLC; 20 Sheridan Boulevard, LLC; 303-309 Tenth Avenue, LLC; 2509 Victory Boulevard, LLC; and Route 295 NJ, LLC (collectively “Citygas Defendants”). The United States alleges that the Citygas Defendants violated the regulations governing underground storage tanks (“USTs”), set forth at 40 CFR Part 280, at the following twenty-one facilities, which were automobile fueling stations with USTs that defendants have owned and/or operated: (1) 9702 Foster Avenue, Brooklyn, New York; (2) 3715 14th Avenue, Brooklyn, New York; (3) 10 Bond Street, New York, New York; (4) 4090 Boston Road, Bronx, New York; (5) 117-01 Springfield Boulevard, Cambria Heights, New York; (6) 1081 Leggett Avenue, Bronx, New York; (7) 83-10 Astoria Boulevard, Jackson Heights, New York; (8) 1508 Bushwick Avenue, Brooklyn, New York; (9) 2800 Bruckner Boulevard, Bronx, New York; (10) 141-50 Union Turnpike, Flushing, New York; (11) 2642-66 Fulton Street, Brooklyn, New York, (12) 1981 Ocean Avenue, Brooklyn, New York; (13) 94-02 111th Street, Richmond Hill, New York; (14) 65-20 Cooper Avenue, Glendale, New York; (15) 168 Flushing Avenue, Brooklyn, New York; (16) 100-07 Rockaway Boulevard, Ozone Park, New York; (17) 145-15 Rockaway Boulevard, Ozone Park, New York; (18) 20 Sheridan Boulevard, Inwood, New York; (19) 303 10th Avenue, New York, New York; (20) 2509 Victory Boulevard, Staten Island, New York; (21) 185 Straughns Mill Road, Pedrickstown, New Jersey. 3023 Route 23, LLC, which is the owner and/or operator of four USTs at 3023 Route 23, West Milford, New Jersey, is also a signatory to the Consent Judgment.

The Consent Judgment requires the Citygas Defendants to pay a civil penalty of $1,400,000. The Consent Judgment also provides for injunctive relief to be implemented over the next five years at the Citygas Defendants' facilities, consisting of maintenance of ongoing compliance with the UST regulations, and submission of reports demonstrating such compliance.

The Department of Justice will receive, for a period of thirty (30) days from the date of this publication, comments relating to the Consent Judgment. Comments should be addressed to the Assistant Attorney General, Environment and Natural Resources Division, and either e-mailed to pubcomment-ees.enrd@usdoj.gov or mailed to P.O. Box 7611, U.S. Department of Justice, Washington, DC 20044-7611, and should refer to United States v. Citygas Gasoline Corporation, et al., Civil Action No. CV-03-6374, D.J. Ref. No. 90-7-1-07464.

The proposed Consent Judgment may be examined at the Office of the United States Attorney, Eastern District of New York, 271 Cadman Plaza East, 7th Fl., Brooklyn, New York 11201, and at the United States Environmental Protection Agency, Region II, 290 Broadway, New York, New York 10007-1866. During the public comment period, the proposed Consent Judgment may also be examined on the following Department of Justice Web site, http://www.usdoj.gov/enrd/Consent_Decrees.html. A copy of the proposed Consent Judgment may be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $33.75 (25 cents per page reproduction cost) payable to the U.S. Treasury or, if by email or fax, forward a check in that amount to the Consent Decree Library at the stated address.

Maureen Katz,
Assistant Section Chief, Environmental Enforcement Section, Environment and Natural Resources Division.

[FR Doc. E9-16566 Filed 7-10-09; 8:45 am]

BILLING CODE 4410-15-P